FEDERAL COMMUNICATIONS COMMISSION

47 CFR Part 54

[CC Docket No. 96-45; FCC 01-120]

Federal-State Joint Board on Universal Service: Children's Internet Protection Act

AGENCY: Federal Communications Commission.

ACTION: Final rule, correction.

SUMMARY: This document corrects errors in the final rule portion regarding implementation of the Children's Internet Protection Act (CIPA) published in the Federal Register on April 16, 2001.

DATES: Effective May 3, 2001.

FOR FURTHER INFORMATION CONTACT: Jonathan Secrest or Narda Jones, Attorney, Common Carrier Bureau, Accounting Policy Division, (202) 418-7400.

SUPPLEMENTARY INFORMATION: This summary contains corrections to the rule portion of the Commission's Report and Order, CC Docket No. 96-45; FCC 01-120, 66 FR 19394 (April 16, 2001). The full text of the Commission's Report and Order is available for public inspection during regular business hours in the FCC Reference Center, Room CY-A257, 445 Twelfth Street, S.W., Washington, D.C., 20554.

Correction

1. On page 19396, in the third column, “Subpart H—Administration” is corrected to read “Subpart F—Universal Service Support for Schools and Libraries”.

2. On page 19396, in the third column, in paragraph 2, “subpart H” is corrected to read “subpart F”.

3. In § 54.20, on page 19397, in the third column, in paragraphs (c)(2)(iii)(A), (c)(2)(iii)(B), and (c)(2)(iii)(C), the phrase “for which you have requested or received Funding Commitments” is corrected to read “on this Form 486.”

4. In § 54.520, on page 19397, in the third column, paragraph (c)(3)(i) is corrected by inserting after the phrase “paragraph (a)(3) of this section,” the following phrase “other than one requesting only discounts on telecommunications services for consortium members.”

5. In § 54.520, on page 19398, in the first column, in paragraph (c)(3)(ii) the phrase “duly completed and signed certifications” is corrected to read “duly completed and signed Forms 479,” and the phrase “received under the universal service support mechanism by” is corrected to read “that I have been approved for discounts under the universal service support mechanism on behalf of,” and by inserting opening quotation marks after the phrase “or I certify”.

6. In § 54.520, on page 19398, in the third column, in paragraph (f), “December 21, 2000” is corrected to read “April 20, 2001” and by inserting the phrase “or library” after the phrase “in which the school”.

Federal Communications Commission.
Magalie Roman Salas,
Secretary.

[FR Doc. 01-11063 Filed 5-2-01; 8:45 am]

BILLING CODE 6712-01-U